DEPARTMENT OF HEALTH AND HUMAN SERVICES

National Institutes Of Health

Prospective Grant Of Exclusive License: Prophylactic and/or Therapeutic Vaccine Against HCV Infection

AGENCY: National Institutes of Health, Public Health Service, HHS.

ACTION: Notice.

SUMMARY: This is notice in accordance with 15 U.S.C. 209(c)(1) and 37 CFR 404.7(a)(1)(i) that the National Institutes of Health (NIH), Department of Health and Human Services, is contemplating the grant of a limited field of use exclusive world-wide license to practice the invention embodied in U.S. Serial Number 09/763,260, filed February 20, 2001 (claiming priority to U.S. Provisional Patent Application Serial No. 60/097,446, filed August 21, 1998), entitled “Modified HCV Peptide Vaccine” to Intercell AG of Vienna, Austria. These patent rights are assigned to the United States as represented by the Department of Health and Human Services.

DATES: Only written comments and/or applications for a license which are received by NIH on or before September 24, 2002, will be considered.

ADDRESSES: Requests for a copy of this issued patent or applications, inquiries, comments, and other materials relating to the contemplated license should be directed to: Carol A. Salata, Technology Licensing Specialist, Office of Technology Transfer, National Institutes of Health, 6011 Executive Boulevard, Suite 325, Rockville, MD 20852-3821; Telephone: (301) 496-7735 ext 232; Facsimile: (301) 402-0220; E-mail: salatac@od.nih.gov.

SUPPLEMENTARY INFORMATION: The invention provides immunogenic peptides of HCV core protein that elicit an enhanced immune response, methods for making these peptides, and methods for using these peptides for a variety of therapeutic, diagnostic, and prognostic applications, including a vaccine.

The prospective exclusive license will be royalty-bearing and will comply with the terms and conditions of 35 U.S.C. 209 and 37 CFR 404.7. It is anticipated that this license may be limited to the field of use as a prophylactic and/or therapeutic vaccine against HCV infection. Intercell AG will use an HCV peptide as a component of an HCV vaccine.

This prospective exclusive license may be granted unless, within 90 days from the date of this published notice, NIH receives written evidence and argument that establishes that the grant of the license would not be consistent with the requirements of 35 U.S.C. 209 and 37 CFR 404.7.

Applications for a license filed in response to this notice will be treated as objections to the grant of the contemplated license. Comments and objections submitted in response to this notice will not be made available for public inspection, and, to the extent permitted by law, will not be released under the Freedom of Information Act, 5 U.S.C. 552.

Dated: June 17, 2002.
Jack Spiegel,
Director, Division of Technology Development and Transfer, Office of Technology Transfer.

[FR Doc. 02-16088 Filed 6-25-02; 8:45 am]

BILLING CODE 4140-01-P